DEPARTMENT OF THE INTERIOR

National Park Service

[NPS-WASO-NAGPRA-NPS0040265; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of objects of cultural patrimony and that have a cultural affiliation with the Indian Tribes or Native Hawaiian organizations in this notice.

DATES: Repatriation of the cultural items in this notice may occur on or after July 7, 2025.

ADDRESSES: Send additional, written requests for repatriation of the cultural items in this notice to Doshia Dodd, Sonoma State University, 1801 East Cotati Avenue, Rohnert Park, CA 94928, email doshia.dodd@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 899 lots of cultural items have been requested for repatriation from various archaeological sites near Kelseyville, Lake County, California.

The 16 lots of objects of cultural patrimony were removed from CA-LAK-382. The cultural items are flaked stone tools and debitage; and ground stone tools. The cultural items have been housed at Sonoma State University since 1973 under Accession number 73-23.

In 1974, at least 129 lots of objects of cultural patrimony were taken from CA-LAK-380 (the “Mostin” site) near Kelseyville, California. The exact count of individual items taken from this site is not recorded in existing documentation. The cultural items are flaked stone tools and debitage; a charmstone; and ground stone tools. The cultural items were donated by Don Branscomb, an amateur archaeologist, and have been housed at Sonoma State University since 1974 under Accession number 74-15.

The four lots of objects of cultural patrimony were removed from CA-LAK-380/381 (the “Mostin” site) near Kelseyville, California. The cultural items are flaked stone tools and debitage. The presence of these items within the collection's facility was discovered while reviewing documentation concerning the locations of sites in Lake County. The cultural items have been housed at Sonoma State University since 1988 under Accession number 88-13.

The 27 lots of objects of cultural patrimony were removed from CA-LAK-382. The cultural items have been housed at Sonoma State University since 1974 under Accession number 74-07 and housed with cultural items from CA-LAK-380/381.

The 188 lots of objects of cultural patrimony were removed from surface collections around Kelseyville in Lake County, California, as a part of the Kelseyville Geothermal Survey. The cultural items are flaked stone tools and debitage; and historic-period items. The cultural items have been housed at Sonoma State University since 1976 under Accession number 76-09.

The 55 lots of objects of cultural patrimony were removed from CA-LAK-808, CA-LAK-809, CA-LAK-811, and CA-LAK-814 as a part of the Clearlake Shoreline Survey in Lake County, California. The cultural items are flaked stone tools and debitage; faunal bone tools; modified faunal bone; stone sample; and unmodified faunal bone. The cultural items have been housed at Sonoma State University since 1977 under Accession number 77-04.

The 52 lots of objects of cultural patrimony were removed from CA-LAK-1126, CA-LAK-1127, CA-LAK-1128, CA-LAK-1329, CA-LAK-1330, and CA-LAK-1181 as a part of the Union Oil Kelsey Creek Project in Lake County, California. The cultural items are flaked stone tools and debitage. The cultural items have been housed at Sonoma State University since 1983 under Accession number 83-01.

The 257 lots of objects of cultural patrimony were removed from CA-LAK-745 near Kelseyville, California. The cultural items are flaked stone tools and debitage; historic-period items; and unmodified faunal bone. The cultural items have been housed at Sonoma State University since 1984 under Accession number 84-10.

Two separate groups of objects of cultural patrimony were removed from CA-LAK-271 near Kelseyville, California. Six lots of cultural items are ground stone tools and faunal bone and have been housed at Sonoma State University since 1986 under Accession number 86-01. 154 lots of cultural items are flaked stone and ground stone tools. These cultural items were donated by Jim Dotta and have been housed at Sonoma State University since 1987 under Accession number 87-11.

The 11 lots of objects of cultural patrimony were removed from CA-LAK-20, CA-LAK-555, CA-LAK-1122, and CA-LAK-1243 as a part of the Geysers Survey Project in Lake County, California. The cultural items are flaked stone tools and debitage. The cultural items have been housed at Sonoma State University since 1990 under Accession number 90-81.

Based on records concerning the objects of cultural patrimony and the institution in which they are housed, there is no evidence of the objects of cultural patrimony being treated with hazardous substances.

Determinations

The Sonoma State University has determined that:

• The 899 lots of objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and Big Valley Band of Pomo Indians of the Big Valley Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 7, 2025. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: May 21, 2025.
Melanie O'Brien,
Manager, National NAGPRA Program.

[FR Doc. 2025-10135 Filed 6-3-25; 8:45 am]

BILLING CODE 4312-52-P